DEPARTMENT OF HEALTH AND HUMAN SERVICES

Centers for Disease Control and Prevention

[60Day-07-06BU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The Effectiveness of Teen Safe Driving Messages and Creative Elements on Parents and Teens—New—National Center for Injury Prevention and Control (NCIPC), Centers for Disease Control and Prevention (CDC).

Background and Brief Description

Car crashes are the number one killer of teens, accounting for approximately one-third of all deaths within this age group. The National Center for Health Statistics reports that in 2004, a total of 3,620 young drivers were killed and an additional 303,000 were injured in motor vehicle crashes.

In order to reduce these preventable deaths and injuries, parental awareness and education about Graduated Driver's Licensing (GDL) laws and the ways that parents can influence their children's safe driving are necessary. In preparation for a national campaign to educate parents about their role in their teens' driver education, it is necessary to determine the most effective messages and channels through which to communicate with parents.

Ogilvy Public Relations Worldwide, on behalf of CDC, will conduct two studies to assess the appropriateness and impact of messages and creative materials intended to (a) increase parental involvement in their teen's driving education and experience, and (b) encourage teens to adopt safer driving practices.

The first information collection will be accomplished through focus group testing of campaign messages and materials with representatives from our target audiences, parents and teens, in two cities in the U.S. The findings will provide valuable information regarding parents' and teens' levels of awareness and concern about safe driving; motivators for behavior change, especially GDL compliance; and message/channel preferences. The information collected will be used to develop final creative materials to implement the teen safe driving campaign in pilot cities.

The second information collection will be accomplished through pilot city testing, which will evaluate knowledge, attitude and behaviors of intended audiences both pre- and post-communications campaign. The campaign will target parents of newly-licensed drivers. It will encourage parents to understand state regulations regarding new drivers, talk with their teens about safe driving practices, and both manage and monitor their teens' driving behavior. Testing will be conducted through brief telephone surveys intended to assess knowledge, attitudes and behaviors of parents and teens related to safe driving practices, GDL laws, and parental management of new drivers before and after the campaign; with the goal of observing a marked increase in parental management at the time of the post-campaign survey. CDC anticipates screening 1,777 individuals and that 45% of these will qualify for the survey testing. Pending CDC's decision whether or not to include teens in survey testing, the breakdown of the groups shown in the tables below may change. However, the total number of respondents and screeners will remain the same.

There is no cost to the respondents other than their time.

Estimated Annualized Burden Hours:

Phase 1.—Focus Group Testing
Type of respondents | Estimated number of respondents | Estimated number of responses per respondent | Average burden per response (in hours) | Annual total burden requested (in hours)
Rejected Screeners | 152 | 1.0 | 1/60 | 2
Accepted Screeners | 48 | 1.0 | 5/60 | 4
Parents | 32 | 1.0 | 2.0 | 64
Teens | 16 | 1.0 | 2.0 | 32
Total |  |  |  | 102

Phase 2.—Pre- and Post-Intervention Pilot City Survey Testing
[based on two cities]
Type of respondents | Estimated number of respondents | Estimated number of responses per respondent | Average burden per response (in hours) | Estimated annual total burden hours requested
Screeners | 1,777 | 2.0 | 1/60 | 59
Parents | 600 | 2.0 | 15/60 | 300
Teens | 200 | 2.0 | 15/60 | 100
Total |  |  |  | 459

Dated: December 13, 2006.
Joan F. Karr,
Acting Reports Clearance Officer, Centers for Disease Control and Prevention.

[FR Doc. E6-21719 Filed 12-19-06; 8:45 am]

BILLING CODE 4163-18-P